OFFICE OF PERSONNEL MANAGEMENT

[Docket ID: OPM-2023-0007]

Submission for Review: New Information Collection, Retirement Services Help Request Form, OMB Control No. 3206-NEW

AGENCY: Office of Personnel Management.

ACTION: 60-Day notice and request for comments.

SUMMARY: The Office of Personnel Management (OPM) offers the general public and other Federal agencies the opportunity to comment on a new information collection request (ICR)-3206-NEW, Retirement Services Help Request Form.

DATES: Comments are encouraged and will be accepted until August 11, 2023.

ADDRESSES: Interested persons are invited to submit written comments on the proposed information collection by one of the following means:

• Federal Rulemaking Portal: http://www.regulations.gov. All submissions received must include the agency name and docket number for this Federal Register document. The general policy for comments and other submissions from members of the public is to make these submissions available for public viewing on the internet at http://www.regulations.gov as they are received without change, including any personal identifiers or contact information.

• Email: Joanne.Herold@opm.gov. Please put “New Help Request Form” in the subject line of the email.

FOR FURTHER INFORMATION CONTACT: A copy of this information collection request, with applicable supporting documentation, may be obtained by contacting the Retirement Services, Office of Personnel Management, P.O. Box 45, Boyers, PA 16017, Attention: Joanne Herold or via electronic mail to Joanne.Herold@opm.gov or via phone at (202) 936-1467.

SUPPLEMENTARY INFORMATION: As required by the Paperwork Reduction Act of 1995 (Pub. L. 104-13, 44 U.S.C. chapter 35), as amended by the Clinger-Cohen Act (Pub. L. 104-106), OPM is soliciting comments for this collection. The Retirement Services Help Request Form is the Federal Government's centralized source for the Retirement Services Call Center and reflects the minimal critical elements collected across the Federal Government to begin an application for retirement under the authority of sections 83 and 84 of title 5, United States Code. This revision proposes to renew a currently approved collection. OPM is proposing to add additional fields of information to its “Submit a Help Request” form on OPM.gov to enable OPM to streamline its process for answering inquiries sent to OPM in this manner. Specifically, OPM will add fields that request the inquirer's full name, CSA/CSF retirement claim number (if applicable), date of birth, and mailing address on file to help quickly identify, track, and manage support requests. Therefore, we invite comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management.

Title: Retirement Services Help Request Form.

OMB Number: 3206-NEW.

Frequency: Annually.

Affected Public: Individuals.

Number of Respondents: 218,405.

Estimated Time per Respondent: 5 Minutes.

Total Burden Hours: 18,200.

U.S. Office of Personnel Management.
Kayyonne Marston,
Federal Register Liaison.

[FR Doc. 2023-12498 Filed 6-9-23; 8:45 am]

BILLING CODE 6325-38-P